DEPARTMENT OF HOMELAND SECURITY

Federal Emergency Management Agency

[Docket ID: FEMA-2007-0008]

National Advisory Council Meeting

AGENCY: Federal Emergency Management Agency, DHS.

ACTION: Notice of Federal Advisory Committee Meeting.

SUMMARY: This notice announces the date, time, location, and agenda for the next meeting of the National Advisory Council (NAC). At the meeting, the subcommittees will be reporting back regarding their work since the May 14-15, 2008 meeting. This meeting will be open to the public.

DATES: Meeting Dates: Wednesday, August 13, 2008, from approximately 11 a.m. to 5 p.m. and Thursday, August 14, 2008, 9 a.m. to 4:30 p.m. A public comment period will take place on the afternoon of August 14, 2008, between approximately 2:30 p.m. and 3 p.m.

Comment Date: Written comments or requests to make oral presentations must be received by August 6, 2008.

ADDRESSES: The meeting will be held at the Grand Hyatt Washington, 1000 H St. NW., Washington, DC 20001. Persons wishing to make an oral presentation, or who are unable to attend or speak at the meeting, may submit written comments. Written comments and requests to make oral presentations at the meeting should be provided to the address listed in the FOR FURTHER INFORMATION CONTACT section and must be received by August 6, 2008. All submissions received must include the Docket ID FEMA-2007-0008 and may be submitted by any one of the following methods:

Federal Rulemaking Portal: http://www.regulations.gov. Follow instructions for submitting comments on the Web site.

E-mail: FEMA-RULES@dhs.gov. Include Docket ID FEMA-2007-0008 in the subject line of the message.

Facsimile: (866) 466-5370.

Mail: Office of Chief Counsel, Federal Emergency Management Agency, Room 835, 500 C Street, SW., Washington, DC 20472.

Hand Delivery/Courier: Office of the Chief Counsel, Federal Emergency Management Agency, Room 835, 500 C Street, SW., Washington, DC 20472.

Instructions: All submissions received must include the Docket ID FEMA-2007-0008. Comments received will also be posted without alteration at http://www.regulations.gov, including any personal information provided.

Docket: For access to the docket to read background documents or comments received by the National Advisory Council, go to http://www.regulations.gov.

FOR FURTHER INFORMATION CONTACT: Alyson Price, Designated Federal Officer, Federal Emergency Management Agency, 500 C Street, SW., Washington, DC 20472, telephone 202-646-3746, fax 202-646-3061, and e-mail FEMA-NAC@dhs.gov or Jennifer.Veal@associates.dhs.gov. The NAC's Web site is located at: http://www.fema.gov/about/nac/.

SUPPLEMENTARY INFORMATION: Notice of this meeting is given under the Federal Advisory Committee Act (FACA), Public Law 92-463, as amended (5 U.S.C. App. 1 et seq. ). The National Advisory Council (NAC) will meet for the purpose of reviewing the progress of the NAC subcommittees, to receive an update on the Regional Advisory Councils, transition issues, and other matters.

Public Attendance: The meeting is open to the public. Please note that the meeting may close early, if all business is finished. Persons with disabilities who require special assistance should advise the Designated Federal Officer of their anticipated special needs as early as possible. Members of the public who wish to make comments on Thursday, August 14, 2008 between 2:30 p.m. and 3 p.m. are requested to register in advance, and must be present and seated by 1:30 pm. In order to allow as many people as possible to speak, speakers are requested to limit their remarks to 3 minutes. For those wishing to submit written comments, please follow the procedure noted above.

Dated: July 7, 2008.
R. David Paulison,
Administrator, Federal Emergency Management Agency.

[FR Doc. E8-15978 Filed 7-14-08; 8:45 am]

BILLING CODE 9111-48-P